DEPARTMENT OF THE INTERIOR

Bureau of Indian Affairs

Indian Gaming

AGENCY: Bureau of Indian Affairs, Interior.

ACTION: Notice of a 2003 amendment to a Tribal-State gaming Compact taking effect between the Stockbridge-Munsee Community and the State of Wisconsin.

SUMMARY: Under Section 11 of the Indian Gaming Regulatory Act of 1988 (IGRA), Pub. L. 100-497, 25 U.S.C. 2710, the Secretary of the Interior shall publish, in the Federal Register, notice of the approved Tribal-State compacts for the purpose of engaging in Class III gaming activities on Indian lands. The Assistant Secretary—Indian Affairs, Department of the Interior, through her delegated authority, has deemed approved the 2003 Amendment to the Stockbridge-Munsee Community and the State of Wisconsin gaming Compact of 1992, as amended in 1998. By the terms of IGRA, the Amendment is considered approved, but only to the extent that the Amendment is consistent with the provisions of IGRA. The Amendment authorizes the Tribe to pay the State between two and a quarter and five percent of net revenues from all class III gaming. The payment to the State is reduced if the scope of non-Indian gaming is expanded within the State or if a federally recognized tribe opens a class III gaming facility within seventy miles of the tribes on reservation gaming facility. In addition the Amendment authorizes, inter alia, all banking, percentage and pari-mutuel card games, all forms of live poker, craps, all banking and non-banking dice games, roulette and other wheel games, keno, wheel of fortune, baccarat-chemin de fer, pari-mutuel wagering on horse, harness and dog racing events, Caribbean stud poker, let-it-ride, and pai-gow poker.

EFFECTIVE DATE: December 9, 2003.

FOR FURTHER INFORMATION CONTACT: George T. Skibine, Director, Office of Indian Gaming Management, Bureau of Indian Affairs, Washington, DC 20240, (202) 219-4066.

Dated: December 2, 2003.
Aurene M. Martin,
Principal Deputy Assistant Secretary—Indian Affairs.

[FR Doc. 03-30504 Filed 12-8-03; 8:45 am]

BILLING CODE 4310-4N-P